DEPARTMENT OF COMMERCE

National Oceanic and Atmospheric Administration

50 CFR Part 622

[Docket No. 120404257-3325-02; RTID 0648-XE112]

Fisheries of the Caribbean, Gulf of Mexico, and South Atlantic; Re-Opening of Golden Tilefish for Commercial Harvest With Bottom Longline Gear in the South Atlantic

AGENCY: National Marine Fisheries Service (NMFS), National Oceanic and Atmospheric Administration (NOAA), Commerce.

ACTION: Temporary rule; re-opening.

SUMMARY: NMFS announces the re-opening of the commercial longline component of golden tilefish in South Atlantic Federal waters. The most recent landings data indicate that the commercial annual catch limit (ACL) of golden tilefish caught by bottom longline gear for the 2024 fishing year has not yet been reached. Therefore, NMFS re-opens the commercial longline component to harvest golden tilefish in South Atlantic Federal waters for 8 days. The purpose of this temporary rule is to allow for the commercial longline ACL for golden tilefish to be harvested while minimizing the risk of exceeding the commercial ACL.

DATES: This temporary rule is effective from July 24, 2024, through July 31, 2024. The commercial longline component is closed from August 1, 2024, through the end of 2024.

FOR FURTHER INFORMATION CONTACT: Mary Vara, NMFS Southeast Regional Office, telephone: 727-824-5305, email: mary.vara@noaa.gov.

SUPPLEMENTARY INFORMATION: The snapper-grouper fishery of the South Atlantic includes golden tilefish and is managed under the Fishery Management Plan for the Snapper-Grouper Fishery of the South Atlantic Region (FMP). The FMP was prepared by the South Atlantic Fishery Management Council (Council) and NMFS, and is implemented by NMFS under the authority of the Magnuson-Stevens Fishery Conservation and Management Act (Magnuson-Stevens Act) by regulations at 50 CFR part 622.

The commercial sector for golden tilefish comprises the longline and hook-and-line components. The commercial golden tilefish ACL is allocated 75 percent to the longline component and 25 percent to the hook-and-line component. The total commercial ACL in 2024, which is equivalent to the total commercial quota, is 433,216 pounds (lb) or 196,503 kilograms (kg) in gutted weight. The longline component quota for 2024 is 324,912 lb (147,378 kg) in gutted weight [50 CFR 622.190(a)(2)(iii)(B)].

On June 8, 2024, NMFS closed the commercial longline component for golden tilefish for the rest of the 2024 fishing year when NMFS previously determined that the commercial quota for the golden tilefish longline component in the South Atlantic would be reached, as required under 50 CFR 622.193(a)(1)(ii) (89 FR 48338, June 6, 2024). After the longline component quota is reached or is projected to be reached, golden tilefish may not be commercially fished or possessed by a vessel with a golden tilefish longline endorsement. However, a more recent estimation of golden tilefish landings harvested by longline gear indicates that the commercial longline ACL for golden tilefish has not been met.

Consistent with regulations at 50 CFR 622.8(c), NMFS temporarily re-opens the commercial longline component for golden tilefish as specified in the DATES section. The commercial longline component will remain open for 8 days to allow for the commercial longline ACL to be reached. NMFS has determined that this re-opening will allow an additional opportunity to commercially harvest the golden tilefish longline component quota while minimizing the risk of exceeding the commercial ACL. The commercial longline component will again be closed from August 1, 2024, through the end of 2024.

The sale or purchase of longline-caught golden tilefish taken from South Atlantic Federal waters is prohibited during the commercial longline closure. The operator of a vessel with a valid Federal commercial vessel permit for South Atlantic snapper-grouper and a valid commercial longline endorsement for golden tilefish having golden tilefish on board must have landed and bartered, traded, or sold such golden tilefish before the closure. The prohibition on sale or purchase does not apply to the sale or purchase of longline-caught golden tilefish that were harvested, landed ashore, and sold before August 1, 2024, and were held in cold storage by a dealer or processor.

Also during the commercial longline closure, golden tilefish may still be commercially harvested using hook-and-line gear while the commercial hook-and-line component is open. However, a vessel with a golden tilefish longline endorsement is not eligible to fish for or possess golden tilefish using hook-and-line gear under the hook-and-line commercial trip limit, as specified in 50 CFR 622.191(a)(2)(ii). The operator of a vessel issued a Federal commercial vessel permit for South Atlantic snapper-grouper and a commercial longline endorsement for golden tilefish with golden tilefish on board must have landed and bartered, traded, or sold such golden tilefish before the commercial longline closure.

NMFS closed the recreational harvest of golden tilefish in the South Atlantic on March 1, 2024, because those landings reached its ACL for the 2024 fishing year (89 FR 14415, February 27, 2024). Therefore, there is no allowable harvest of golden tilefish under the recreational bag and possession limits, and all harvest or possession of golden tilefish in or from South Atlantic Federal waters is prohibited by a person on a vessel with a golden tilefish longline endorsement. Additionally, the recreational bag and possession limits and the sale and purchase provisions of the commercial closure apply to a person on a vessel with a golden tilefish longline endorsement in state or Federal waters, as specified in 50 CFR 622.190(c)(1).

The 2025 fishing season for the commercial harvest of South Atlantic golden tilefish with bottom longline gear opens again on January 15, 2025 [50 CFR 622.183(b)(11)].

Classification

NMFS issues this action pursuant to section 305(d) of the Magnuson-Stevens Act. This action is required by 50 CFR 622.8(c), 622.190(a)(2)(iii), and 622.193(a)(1)(ii), issued pursuant to section 304(b), and is exempt from review under Executive Order 12866.

Pursuant to 5 U.S.C. 553(b)(B), there is good cause to waive prior notice and an opportunity for public comment on this action, as notice and comment is unnecessary. Such procedure is unnecessary, because the regulations associated with the commercial quota for the longline component of golden tilefish and a re-opening to provide an opportunity for the quota to be harvested have already been subject to notice and public comment, and all that remains is to notify the public of the commercial longline component re-opening.

For the reasons just stated, there is also good cause to waive the 30-day delay in the effectiveness of this action under 5 U.S.C. 553(d)(3).

Authority: 16 U.S.C. 1801 et seq.

Dated: July 17, 2024.
Lindsay Fullenkamp,
Acting Director, Office of Sustainable Fisheries, National Marine Fisheries Service.

[FR Doc. 2024-16052 Filed 7-17-24; 4:15 pm]

BILLING CODE 3510-22-P